DEPARTMENT OF COMMERCE

Bureau of Export Administration

Action Affecting Export Privileges; Infocom Corporation, Inc., Tetrabal Corporation, Ihsan Medhat “Sammy” Elashi, Also Known as I. Ash and Haydee Herrera and Doing Business as Kayali Corp.; Abdulah Al Nasser, Maysson Al Kayali, Mynet. Net Corp. Bayan Medhat Elashi, Ghassan Elashi, Basman Medhat Elashi, Hazim Elashi, Fadwa Elafrangi; Renewal of Order Temporarily Denying Export Privileges

In the Matter of: Infocom Corporation, Inc., 630 International Parkway, Suite 100, Richardson, Texas 75081; Tetrabal Corporation, Inc., 605 Trail Lake Drive, Richardson, Texas 75081, and 908 Audelia Road, Suite 200, PMB #245, Richardson, Texas 75081, and Ihsan Medhat “Sammy” Elashi also known as: I. Ash and Haydee Herrera, and doing business as Kayali Corp., 605 Trail Lake Drive, Richardson, Texas 75081 and 908 Audelia Road, Suite 200, PMB #245, Richardson, Texas 75081; Respondents Abdulah Al Nasser, 605 Trail Lake Drive, Richardson, Texas 75081 and 908 Audelia Road, Suite 200, PMB #245, Richardson, Texas 75081; Maysoon Al Kayali, 605 Trail Lake Drive, Richardson, Texas 75081 and 908 Audelia Road, Suite 200, PMB #245, Richardson, Texas 75081; Mynet.Net Corp, Richardson, Texas 75081 and 908 Audelia Road, Suite 200, PMB #245, Richardson, Texas 75081; Bayan Medhat Elashi, 1810 Auburn, Richardson, Texas 75081; Ghassan Elashi, 304 Town House Lane, Richardson, Texas 75081; Basman Medhat Elashi, 1506 Willow Crest Drive, Richardson, Texas 75081; Hazim Elashi, 937 Stone Trail Drive, Plano, Texas 75023; Fadwa Elafrangi, 306 Town House Lane, Richardson, Texas 75081; Related persons.

Through the Office of Export Enforcement (“OEE”), the Bureau of Export Administration (“BXA”), United States Department of Commerce, has asked me to renew and modify the order pursuant to Section 766.24 of the Export Administration Regulations (currently codified at 15 CFR parts 730-774 (2001)) (“EAR” or “Regulations”),¹ temporarily denying all United States export privileges to Infocom Corporation, Inc., 630 International Parkway, Suite 100, Richardson, Texas 75081 (“Infocom”) that was issued on September 6, 2001.² BXA has asked that I modify the order by naming Tetrabal Corporation, Inc. (“Tetrabal”) and Ihsan Medhat “Sammy” Elashi (“Ihsan Elashi”) as respondents rather than related persons, and that I list modified addresses and aliases as set out in the caption of this order. Further, BXA has asked that I add the following related persons: Abdulah Al Nasser; Maysoon Al Kayali; and Mynet.Net Corp, all with addreses at: 605 Trail Lake Drive, Richardson, Texas 75081 and 908 Audelia Road, Suite 200, PMB #245, Richardson, Texas 75081.

¹ The Regulations were issued pursuant to the Export Administration Act of 1979 (“Act”), 50 U.S.C. app. sections 2401-2420 (1994 & Supp. IV 1998), as reauthorized by Act of November 13, 2000, Pub. L. 106-508, 114 Stat. 2360. The Act lapsed on August 20, 2001. Pursuant to the International Emergency Economic Powers Act (50 U.S.C. 1701-1706 (1994 & Supp. IV 1998)), the President, through Executive Order 13222 of August 17, 2001 (66 FR 44025 (August 22, 2001)), has continued the Regulations in force.

² On February 27, 2002, Counsel for Infocom filed Opposition of Infocom Corporation, Inc., Bayan Medhat Elashi, Ghassan Elashi and Basman Medhat Elashi (“The Three Brothers”) to Renewal of Order Temporarily Denying Export Privileges. On March 1, 2002, counsel for OEE filed “Response to Opposition of Infocom Corporation, Inc, et al. to Renewal Order Temporarily Denying Export Privileges (TDO)” (“OEE Response”). The OEE Response argues that The Three Brothers lack standing because they are “Related Persons” in the September 6th Order and, as such, may not oppose Renewal of the Order. OEE cites § 766.2(3)(c) of the EAR as authority for its position. I find the arguments raised by OEE on this issue, both in its pleadings and at oral argument, to be persuasive. Only Infocom has standing to oppose Renewal of the TDO.

In its request, BXA states that, based upon the evidence previously adduced and the continuing investigation by OEE, BXA believes that Infocom, Tetrabal, and Ihsan Elashi have violated the Regulations by shipping and attempting to ship goods to Libya and Syria without obtaining the necessary authorizations from BXA and further violated the Regulations by shipping goods in violation of the original denial order. Since the September 6 order, Ihsan Elashi has made at least 10 exports of computer equipment that violated the order. Abdulah Al Nasser and Maysoon Al Kayali assisted Ihsan Elashi in making some of these exports in violation of the denial order. Additionally, Ihsan Elashi used Mynet.net as the exporter for at least one of the shipments. In several of these exports, Ihsan Elashi used concealment and subterfuge to attempt to conceal his exports which violated the terms of the September 6 order.

The Assistant Secretary for Export Enforcement previously found the TDO was consistent with the public interest to preclude future violations of the Regulations. I find that the need for the TDO continues. The evidence that Infocom commited repeated violations of the Regulations that were deliberate and covert, that it actively sought to engage in further export transacitons, that, given the nature of the items shipped, future violations could go undetected makes it necessary to give notice to companies in the United States and abroad that they should cease dealing with the respondents in export transactions involving U.S.-origin items, and that Infocom has continued doing business with Ihsan Elashi and Tetrabal. The need for the continuation of the TDO and the naming of Ihsan Elashi and Tetrabal as denied persons is also established by the flagrant violations of the order that have ocurred more recently. A TDO that also names Ihsan Elashi and Tetrabal is clearly consistent with the public interest to preclude future violations of the Regulations.

Accordingly, I am renewing this order with the amendments requested by BXA because I have concluded that a TDO is necessary, in the public interest, to prevent an imminent violation of the Regulations.

It is therefore ordered: First, that Infocom Corporation, Inc., 630 International Parkway, Suite 100, Richardson, Texas 75081, Tetrabal Corporation, Inc., 605 Trail Lake Drive, Richardson, Texas 75081 and 908 Audelia Road, Suite 200, PMB #245, Richardson, Texas 75081, and Ihsan Medhat “Sammy” Elashi, also known as I. Ash and Haydee Herrera, same addresses as Tetrabal, (collectively, “the denied persons”) and the following persons subject to the order by their relationship to the denied person Bayan Medhat Elashi, 810 Auburn, Richardson, Texas 75081; Ghassan Elashi, 304 Town House Lane, Richardson, Texas 75081; Basman Medhat Elashi, 1506 Willow Crest Drive, Richardson, Texas 75081; Hazim Elashi, 937 Stone Trail Drive, Plano, Texas 75023; Fadwa Elafrangi; 306 Town House Lane; Richardson, Texas 75081, and Abdulah Al Nasser, Maysoon Al Kayali, and Mynet.net Corp, all three at the same addresses as Tetrabal, (“the related persons”) (together, the denied person and the related persons are “persons subject to this order”) may not, directly or indirectly, participate in any way in any transaction involving any commodity, software or technology (hereinafter collectively referred to as “item”) exported or to be exported from the United States that is subject to the Export Administration Regulations (EAR), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of a person subject to this order any item subject to the EAR;

B. Take any action that facilities the acquisition or attempted acquisition by a person subject to this order of the ownership, possession, or control of any item subject to the EAR that has been or will be exported from the United States, including financing or other support activities related to a transaction whereby a person subject to this order acquires or attempts to acquire such ownership, possession or control;

C. Take any action to acquire from or to facilitate the acquisition or attempted acquisition from a person subject to this order of any item subject to the EAR that has been exported from the United States;

D. Obtain from a person subject to this order in the United States any item subject to the EAR with knowledge or reason to know that the item will be, or is intended to be, exported from the United States; or

E. Engage in any transaction to service any item subject to the EAR that has been or will be exported from the United States and which is owned, possessed or controlled by a person subject to this order, or service any item, of whatever origin, that is owned, possessed or controlled by a person subject to this order if such service involves the use of any item subject to the EAR that has been or will be exported from the United States. For purposes of this paragraph, servicing means installation, maintenance, repair, modification or testing.

Third, that, in addition to the related persons named above, after notice and opportunity for comment as provided in section 766.23 of the EAR, any other person, firm, corporation, or business organization related to the denied person by affiliation, ownership, control, or position of responsibility in the conduct of trade or related services may also be made subject to the provisions of this order.

Fourth, that this order does not prohibit any export, reexport, or other transaction subject to the EAR where the only items involved that are subject to the EAR are the foreign-produced direct product of U.S.-origin technology.

In accordance with the provisions of Section 766.24(e) of the Regulations, Infocom, Tetrabal, or Ihsan Elashi may, at any time, appeal this Order by filing a full written statement in support of the appeal with the Office of the Administrative Law Judge, U.S. Coast Guard ALJ Docketing Center, 40 South Gay Street, Baltimore, Maryland 21202-4022. A related person may appeal to the Administrative Law Judge at the aforesaid address in accordance with the provisions of Section 766.23(c) of the Regulations.

This Order is effective on March 4, 2002 and shall remain in effect for 180 days.

In accordance with the provisions of Section 766.24(d) of the Regulations, BXA may seek renewal of this Order by filing a written request not later than 20 days before the expiration date. Infocom, Tetrabal, or Ihsan Elashi may oppose a request to renew this Order by filing a written submission with the Assistant Secretary for Export Enforcement, which must be received not later than seven days before the expiration date of the Order.

A copy of this Order shall be served on Infocom, Tetrabal, and Ihsan Elashi and each related person and shall be published in the Federal Register.

Entered this 4th day of March, 2002.
Lisa A. Prager,
Acting Assistant Secretary for Export Enforcement.

[FR Doc. 02-5670 Filed 3-8-02; 8:45 am]

BILLING CODE 3510-DT-M